DEPARTMENT OF STATE

[Public Notice 4098]

Bureau of Educational and Cultural Affairs; Notice: Grants/Grantsmanship Workshop

SUMMARY: The State Department's Bureau of Educational and Cultural Affairs sponsors and administers a wide range of academic, professional and cultural exchange programs and activities promoting ties between the people of the United States and people from 140 countries around the world. In an effort to broaden the base of participation in its different programs and activities, the Bureau announces that it will be holding a grants/grantsmanship workshop, inviting representatives from nongovernmental organizations and institutions to learn about the Bureau's different international exchange grant program opportunities. The Bureau is particularly interested in meeting representatives of organizations that have not previously participated in Bureau programs. The workshop will take place on September 26, 2002, from 1:30 pm to 4:30 pm in the Discovery Ballroom of the Holiday Inn, 550 C St., SW., Washington, DC.

Additional Information

Interested organizations and institutions should contact David Levin at (202) 619-5386 or by e-mail at dlevin@pd.state.gov by September 23, 2002 to complete registration and reserve a place at the workshop.

Dated: August 12, 2002.
Patricia S. Harrison,
Assistant Secretary for Educational and Cultural Affairs, Department of State.

[FR Doc. 02-20858 Filed 8-15-02; 8:45 am]

BILLING CODE 4710-05-P